DEPARTMENT OF VETERANS AFFAIRS

National Research Advisory Council; Notice of Meeting

The Department of Veterans Affairs (VA) gives notice under Public Law 92-463 (Federal Advisory Committee Act) that the Department of Veterans Affairs (VA) National Research Advisory Council will meet at the Hyatt Dulles, 2300 Dulles Corner Boulevard, Herndon, VA 20171, March 4, 2002, from 8:30 a.m. until 4 p.m. The meeting will be open to the public.

The meeting will begin with opening remarks and an overview by Dr. George Rutherford, Council Chairman. The Council will receive briefings on Biomedical Research Program, Career Development Program, and Research, Education, and Clinical Centers. During the afternoon, the Council will receive briefings on Bioterrorism Issues in VA Research and Intellectual Property Issues. The meeting will conclude with a discussion of above agenda topics, administrative issues and future agenda topics.

Established by the Secretary, the purpose of the Council is to provide external advice and review for VA's research mission. Any member of the public wishing to attend the meeting or wishing further information should contact Ms. Karen Scott, Office of Research and Development at (202) 273-8284.

Dated: February 27, 2002.
By direction of the Secretary.
Nora E. Egan,
Committee Management Officer.

[FR Doc. 02-5158 Filed 3-1-02; 8:45 am]

BILLING CODE 8320-01-M